DEPARTMENT OF HEALTH AND HUMAN SERVICES

Office of the Secretary

Request for Information on Federal Coordination To Promote Economic Mobility for All Americans

AGENCY: Office of the Assistant Secretary for Planning and Evaluation (ASPE), U.S. Department of Health and Human Services (HHS).

ACTION: Request for Information.

SUMMARY: HHS is publishing this Request for Information (RFI) to seek public input on the development of a federal interagency Council on Economic Mobility (Council). HHS and the Council will analyze information collected in this RFI to gather feedback from our stakeholders to better inform the Council's priorities and how the Council can promote economic mobility, recovery, and resilience.

DATES: Submit written comments at the address provided below no later than October 2, 2020.

ADDRESSES: Written comments should be submitted to CouncilTeam@hhs.gov. HHS encourages the early submission of comments.

FOR FURTHER INFORMATION CONTACT: The ASPE Council team at CouncilTeam@hhs.gov.

SUPPLEMENTARY INFORMATION: Invitation to Comment: HHS invites comments regarding the questions included in this notice. To ensure that your comments are clearly stated, please identify the specific question, or other section of this notice, that your comments address.

1.0 Background

As announced in HHS's 2020 Congressional Justification, HHS is leading the development and establishment of an interagency Council on Economic Mobility (Council). The Council is composed of the heads of member agencies (HHS; the U.S. Departments of Agriculture, Education, Labor, Housing and Urban Development [HUD], and Treasury; the Social Security Administration [SSA]; and the Council of Economic Advisors [CEA]) or their delegates. HHS will also serve as the first Council chair.

As an administratively established group, the Council is constrained to activities and authorities contained in current law. As an interagency group, the Council is focusing on areas that are crosscutting, issues that cannot be accomplished by a single agency on its own, seeking to create an accountable and effective structure for interagency collaboration and using federal authorities to promote family-sustaining careers and economic mobility for low-income Americans. The Council aims to promote economic recovery and build resilience in the face of the COVID-19 pandemic, learning from the response to build a more integrated and effective long-term federal strategy to promote economic mobility and help individuals sustain their economic success.

Many federal workforce and work support programs and services are overseen by the Council member agencies, such as the Child Care and Development Fund, Medicaid, Supplemental Nutrition Assistance Program Employment and Training, the Family Self-Sufficiency program, the Jobs Plus program, Vocational Rehabilitation programs, and Workforce Innovation and Opportunity Act programs, among others. For examples of more potential programs, go to https://tinyurl.com/CouncilonEconomicMobility.

2.0 Request for Information

Through this RFI, HHS and its interagency partners (Agriculture, Education, Labor, HUD, Treasury, SSA, CEA, the Office of Management and Budget, and the Domestic Policy Council) seek to gather feedback from our stakeholders—state and local government agencies, local program operators, and the people that we serve. The information gathered in response to the RFI will be used to better inform the Council's priorities, working group activities, stakeholder engagement, and federal programs. Council members and the entire U.S. government are committed to a healthy and resilient America. COVID-19 has touched individuals and families in every corner of America—with communities across the country experiencing the pandemic in different ways. Feedback on the specific economic mobility, recovery, and resilience challenges in local communities in the short, medium, and long term is welcome.

3.0 Key Questions

3.1 What priorities would you identify for the new federal Council on Economic Mobility?

3.2 As a state, community, or provider, what are your suggestions for how to make federal workforce and work support programs work better together in your state or community at this time and in the long-term? Please share any examples of effective federal program coordination.

3.3 As a state, community, or provider, what do you think are the immediate barriers preventing federal workforce and work support programs from collaborating in your state or community? What are the long-term barriers?

3.4 How can federal agencies collaborate and coordinate to help program operators foster participant economic mobility, recovery, and resilience, using administrative authorities such as joint communications, technical assistance, and program guidance? What are specific examples based on your experience?

3.5 How are program cliff effects and high effective marginal tax rates impacting the economic mobility of individuals and families in your community? What methods are being used to address these challenges?

NOTE: An effective marginal tax rate is the proportion of new earnings owed in taxes or needed to offset reductions in program benefits and quantifies the share of new earnings not available to families. For example, if a family earns an additional $400 during the year which prompts a $200 reduction in program benefits, this is an effective marginal tax rate of 50 percent on their new earnings. A program “cliff effect” refers to a marginal tax rate of 100 percent or more. This results from a loss of benefits that equals or exceeds the earnings gain. That is, 100 percent or more of new earnings are eclipsed by benefit losses.

3.6 What kind of federal operational systems—such as data interoperability, grant, and contract mechanisms—would make it easier to meet your goals related to economic mobility?

3.7 What are the most significant challenges that prevent participants/recipients of federal workforce, work support, and housing programs from fully participating in such programs? Do these challenges present obstacles for participants in meeting their economic and employment goals? For example, are there barriers related to child care, transportation, health, disability, caring for a family member, substance use disorder, etc.?

3.8 How can federal agencies better work together to help participants, including those facing multiple barriers, overcome these barriers in the short term and achieve economic mobility and resilience in the long term?

3.9 What federal rules do you wish had more flexibility? What flexibilities do you need to respond to economic crises?

3.10 What do you wish government officials knew about your work?

3.11 What workforce and work support programs more easily align with others?

3.12 What are your suggestions for how to proactively support workforce preparation prior to an individual needing to participate in a federal workforce or work support program, such as programs focused on youth?

3.13 Are there existing workforce programs or strategies that have not historically been widely accessible to lower income individuals and families that could help them achieve economic mobility, recovery, and resilience if they had better access to them? If so, please identify.

3.14 How does your program define and measure economic mobility? What data do you use?

3.15 Do you have recommendations for how to define and measure economic mobility that could be used across different programs?

Dated: July 9, 2020.
Brenda Destro,
Deputy Assistant Secretary for Planning and Evaluation, Office of Human Services Policy.

[FR Doc. 2020-15319 Filed 7-15-20; 8:45 am]

BILLING CODE 4150-05-P